DEPARTMENT OF THE INTERIOR

Fish and Wildlife Service

50 CFR Part 17

[Docket No. FWS-R8-ES-2014-0041; 4500030113]

RIN 1018-BA05

Endangered and Threatened Wildlife and Plants; Threatened Species Status for West Coast Distinct Population Segment of Fisher

AGENCY: Fish and Wildlife Service, Interior.

ACTION: Proposed rule; extension of comment period.

SUMMARY: We, the U.S. Fish and Wildlife Service, are extending the comment period for our October 7, 2014, proposed rule to list the West Coast distinct population segment (DPS) of fisher (Pekania pennanti) as a threatened species under the Endangered Species Act of 1973, as amended. This action ensures the public has an additional opportunity to comment on the proposal.

DATES: Submit your comments on the proposal on or before February 4, 2015. Comments submitted electronically using the Federal eRulemaking Portal (see ADDRESSES, below) must be received by 11:59 p.m. Eastern Time on the closing date.

ADDRESSES: Document availability: You may obtain a copy of the proposed rule on the Internet at http://www.regulations.gov at Docket No. FWS-R8-ES-2014-0041, or by contacting the U.S. Fish and Wildlife Service, Yreka Fish and Wildlife Office (see FOR FURTHER INFORMATION CONTACT).

Comment submission: You may submit comments by one of the following methods:

(1) Electronically: Go to the Federal eRulemaking Portal: http://www.regulations.gov. In the Search box, enter FWS-R8-ES-2014-0041, which is the docket number for the rulemaking. Then, in the Search panel on the left side of the screen, under the Document Type heading, click on the Proposed Rules link to locate the document. You may submit a comment by clicking on “Comment Now!”

(2) By hard copy: Submit by U.S. mail or hand-delivery to: Public Comments Processing, Attn: FWS-R8-ES-2014-0041, U.S. Fish and Wildlife Service, MS: BPHC, 5275 Leesburg Pike, Falls Church, VA 22041-3803.

We request that you send comments only by the methods described above. We will post all comments on http://www.regulations.gov. This generally means that we will post any personal information you provide us (see the Information Requested section, below, for more information).

FOR FURTHER INFORMATION CONTACT: Erin Williams, Field Supervisor, U.S. Fish and Wildlife Service, Yreka Fish and Wildlife Office, 1829 South Oregon Street, Yreka, CA 96097; telephone 530-842-5763; or facsimile 530-842-4517. Persons who use a telecommunications device for the deaf (TDD) may call the Federal Information Relay Service (FIRS) at 800-877-8339.

SUPPLEMENTARY INFORMATION:

Background

On October 7, 2014, we published a proposed rule (79 FR 60419) to list the West Coast DPS of fisher as a threatened species under the Endangered Species Act of 1973, as amended (Act; 16 U.S.C. 1531 et seq.).

At the November 17, 2014, public hearing in Redding, California, we received multiple requests to extend the 90-day public comment period on the proposed rule beyond the January 5, 2015, closing date. In order to provide all interested parties an additional opportunity to review and comment on our proposed rule, we are extending the comment period on the proposed rule for an additional 30 days, until February 4, 2015.

Information Requested

We intend that any final action resulting from the proposed rule will be based on the best scientific and commercial data available and be as accurate and as effective as possible. Therefore, we request comments or information from other concerned Federal and State agencies, the scientific community, or any other interested party concerning the proposed listing rule. Please see the Information Requested section of the proposed listing rule (79 FR 60419, October 7, 2014) for a list of the comments and information that we particularly seek.

For more background on our proposed listing rule, see the October 7, 2014, Federal Register (79 FR 60419). The ADDRESSES section, above, provides information about how to obtain a copy of the proposed rule.

If you previously submitted comments or information on the proposed rule, please do not resubmit them. We have incorporated them into the public record, and we will fully consider them in our final rulemaking. Our final determination concerning the proposed rulemaking will take into consideration all written comments and any additional information we receive.

Please note that submissions merely stating support for or opposition to the action under consideration without providing supporting information, although noted, may not meet the standard of information required by section 4(b)(1)(A) of the Act, which directs that determinations as to whether any species is an endangered or threatened species be made “solely on the basis of the best scientific and commercial data available.”

You may submit your comments and materials concerning the proposed listing rule by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your submission (such as scientific journal articles or other publications) to allow us to verify any scientific or commercial information you include.

Comments and materials we receive, as well as supporting documentation we used in preparing the proposed listing rule, will be available for public inspection on http://www.regulations.gov, or by appointment, during normal business hours, at the U.S. Fish and Wildlife Service, Yreka Fish and Wildlife Office (see FOR FURTHER INFORMATION CONTACT).

Authors

The primary authors of this notice are the staff members of the Pacific Southwest Regional Office and the Yreka Fish and Wildlife Office.

Authority

The authority for this action is the Endangered Species Act of 1973, as amended (16 U.S.C. 1531 et seq.).

Dated: December 15, 2014.
Stephen Guertin,
Acting Director, U.S. Fish and Wildlife Service.

[FR Doc. 2014-29979 Filed 12-22-14; 8:45 am]

BILLING CODE 4310-55-P